GENERAL SERVICES ADMINISTRATION

[Notice-MA-2023-11; Docket No. 2023-0002; Sequence No. 44]

Notice of Request for Information on the Computers for Veterans and Students Act of 2022

AGENCY: Office of Government-wide Policy (OGP), General Services Administration (GSA).

ACTION: Notice; request for information (RFI).

SUMMARY: GSA is responsible for implementing the Computers for Veterans and Students Act of 2022 (COVS Act), which aims to close the digital divide and provide access to surplus computers and technology equipment to eligible recipients. GSA is seeking information from nonprofit computer refurbishers and other nongovernmental entities to better understand the industry as GSA develops regulations to implement the COVS Act.

DATES: Interested parties should submit written comments to the address shown below on or before February 13, 2024.

ADDRESSES: Comments to the RFI must be provided in writing. Interested parties are to submit their written comments electronically to https://www.regulations.gov. Submit comments via the Federal eRulemaking portal by searching for “RFI Computers for Veterans and Students Act of 2022”. Select the link “Comment Now” that corresponds with the RFI and follow the instructions provided on the screen. Please include your name, company name (if any), and “RFI Computers for Veterans and Students Act of 2022” on your attached document. If your comment cannot be submitted using https://www.regulations.gov, call or email the points of contact in the FOR FURTHER INFORMATION CONTACT section of this document for alternate instructions.

You are not required to answer all of the questions in the RFI, but the more information we receive, the better GSA will understand the nonprofit computer refurbisher industry.

Comments received generally will be posted without change to https://www.regulations.gov, including any personal and/or business confidential information provided. To confirm receipt of your comment(s), please check https://www.regulations.gov approximately two-to-three days after submission to verify posting.

FOR FURTHER INFORMATION CONTACT: Mr. William Garrett, Director, Personal Property Policy Division, Office of Government-wide Policy, Office of Asset and Transportation Management (MA), at 202-368-8163 or personalpropertypolicy@gsa.gov for clarification of content. For information pertaining to status or publication schedules, contact the Regulatory Secretariat Division at 202-501-4755 or GSARegSec@gsa.gov. Please cite RFI Computers for Veterans and Students Act of 2022.

SUPPLEMENTARY INFORMATION:

Background

GSA oversees the disposal of federal excess and surplus personal property. Under the COVS Act (codified at 40 U.S.C. 549a), GSA is required, as appropriate, to transfer full title of eligible surplus computers and technology equipment to nonprofit computer refurbishers.

Nonprofit computer refurbishers are responsible for the repair, distribution, and subsequent transfer of the equipment to eligible recipients. The term “eligible recipient” means an educational institution, individual with a disability, low-income individual, student, senior in need, or veteran that is residing or based in the United States. If the equipment cannot be repaired or reused, nonprofit computer refurbishers must use recyclers to the maximum extent practicable. Nonprofit computer refurbishers must also offer training programs to eligible recipients on the use of the repaired computers and technology equipment, and report required information to GSA.

Purpose

The purpose of this RFI is to gather information from nonprofit computer refurbishers and other nongovernmental entities to better understand the industry's experience in and ability to (1) refurbish computers and technology equipment; (2) recycle computers and technology equipment if the property can't be repaired or reused; (3) distribute property to eligible recipients; (4) provide training programs; and (5) report data to GSA as required. GSA is also requesting information from nongovernmental entities that may be able to facilitate the identification and participation of nonprofit computer refurbishers.

This information will help GSA evaluate the eligibility and suitability of nonprofit computer refurbishers for participating in the COVS Act program and receiving surplus computers and technology equipment from Federal agencies. This information will also help GSA identify nongovernmental entities for potential partnerships and to develop a framework for the COVS Act program and implementing regulations.

GSA is providing the following information to help the industry understand the amount of personal property reported to GSA as excess under Federal Supply Group (FSG) 70 with a condition code of repairable. It's important to note that the amount of property available for transfer under the COVS Act will be less than the amount of property reported to GSA as excess since the COVS Act authorizes the transfer of surplus computer or technology equipment. Excess personal property is available for transfer to other Federal agencies and may be utilized at the excess level before it could be declared surplus, thereby it would not be available for transfer as surplus property under the COVS Act. Additionally, the amount of reported property varies each fiscal year and numbers decreased due to the impact of COVID-19.

Definitions
Federal Supply Group (FSG) | 2-digit numeric code representing a group of Federal Supply Classes.
Condition Code | The current condition or usability of the property (new/unused; usable; repairable; salvage; or scrap).
Fiscal Year | Begins on October 1 of each year and ends on September 30 of the following year.
Line Item | A single line entry, on a reporting form or transfer order, for items of property of the same type having the same description, condition code, and unit cost.
Quantity | The number of units of issue of available property.
Unit of Issue | The way the property quantity is normally measured, sold, or counted in an inventory (e.g., each, lot, box).
Original Acquisition Cost (OAC) | The price an agency originally paid for an item when they acquired it (not the fair market value).

Reported Excess Personal Property:FSG 70 & Condition Code Repairable
Fiscal year | Line items | Quantity | OAC
19 | 36,875 | 146,038 | $219,972,562.45
20 | 23,384 | 87,190 | 115,469,580.08
21 | 20,339 | 60,824 | 121,137,177.77
22 | 19,906 | 55,555 | 118,602,707.33
23 (10/1/22-6/30/23) | 11,095 | 34,372 | 58,470,951.90
Total | 111,599 | 383,979 | 633,652,979.53

This RFI is for general fact-gathering purposes. Interested parties will not be reimbursed for any costs related to providing information in response to this RFI. The Government does not intend to award a contract on the basis of this RFI.

Requested Information From Industry

To help GSA assess the ability of nonprofit computer refurbishers or other industry partners to participate in the COVS Act program, please answer the following questions:

General

• If you are a nonprofit computer refurbisher, what is the name, mission, vision, location, and history of your nonprofit organization? How long have you been operating as a nonprofit computer refurbisher or industry partner?

• What are your sources of funding and support? How do you ensure financial sustainability and accountability?

• How many staff members and volunteers do you have? What are their roles and qualifications? How do you recruit, train, and retain them?

Refurbishing

• How many computers and technology equipment do you refurbish per year? What are the types, models, brands, and specifications of the equipment you refurbish? What are the standards and procedures you follow for refurbishing?

• When do you consider computer or technology equipment obsolete or unrepairable? Is there any type of surplus computer or technology equipment that you will not accept? For example, computers without hard drives or equipment over a certain age.

• Do you provide data sanitization services? Do you follow the National Institute of Standards and Technology (NIST Special Publication 800-88, Rev. 1) guidelines? Do you provide evidence/reports that sanitization was completed?

Recycling

• If computer or technology equipment cannot be repaired or reused, what do you do with the property? Are you a certified electronics recycler? If so, under which standard? If not, do you partner with certified electronics recyclers?

• How many computers and technology equipment do you recycle per year? What are the types, models, brands, and specifications of the equipment you recycle? What are the standards and procedures you follow for recycling?

Distribution

• What process would you use to identify recipients eligible to receive surplus computer or technology equipment in accordance with 40 U.S.C. 549a? How would you verify eligibility to prevent ineligible persons from obtaining equipment? How would you determine who receives the equipment to ensure fair and equitable distribution?

• Would recipients be required to pay for the equipment? How would you determine the price or fee in compliance with 40 U.S.C. 549a(b)(3)(B)?

• Is your organization able to segregate equipment received under the COVS Act from other sources to ensure this equipment is only provided to eligible recipients?

• Federal agencies are generally unable to pay for shipping and transportation to refurbishers. Would you cover shipping costs? Would you be able to pick up computers and equipment from agency locations?

• How would you distribute refurbished computers and technology equipment to recipients? What would be your distribution network and criteria? How would you ensure quality control and customer service?

• How long (in days) would it take to refurbish computers (from the date the equipment is received) and provide them to eligible recipients?

Training

• Do you offer training programs on the use of the repaired computers and technology equipment? Is this training provided at no cost, or for a fee? If there is a charge for the classes, how is this fee determined?

• Please describe the training programs, platforms (e.g., in person, virtual) and the target audiences.

Reporting

• Nonprofit computer refurbishers receiving surplus computer or technology equipment under the COVS Act are required to report information to GSA on a recurring basis. This includes information about the distribution of the equipment and which eligible recipients received the equipment. Would you be able to provide the required recipient data and reports to GSA? How soon could you provide reports about who received the equipment (taking into account the time to repair and transfer them)? Do you foresee any challenges in providing this data to GSA?

Partnerships

• Do you have any experience working with Federal agencies or receiving surplus computers and technology equipment from them? If so, please provide examples.

• How do you envision nongovernmental entities partnering with GSA? Do you anticipate any challenges with GSA establishing partnerships with nongovernmental entities to facilitate the identification and participation of nonprofit computer refurbishers?

• Are you aware of any nonprofit computer refurbisher groups, alliances, or associations? If yes, please list them. Are there other types of groups we need to be aware of in the industry?

• Are you a member of a nonprofit computer refurbisher group, alliance, or association? If yes, which one? What are the eligibility and certification requirements to join? Are you required to pay any fees to participate? Why did you decide to join one or choose one particular group, alliance, or association over another?

• If you're not part of a group, alliance, or association, is there a reason you have not joined or are you opposed to joining one?

Other

• Please provide any additional comments or challenges you anticipate related to participating in the COVS Act program.

Krystal J. Brumfield,
Associate Administrator, Office of Government-wide Policy, U.S. General Services Administration.

[FR Doc. 2023-27536 Filed 12-14-23; 8:45 am]

BILLING CODE 6820-14-P